DEPARTMENT OF STATE

[Public Notice: 9962]

Overseas Schools Advisory Council

AGENCY: Department of State

ACTION: Notice of renewal of an advisory committee charter.

SUMMARY: The State Department is renewing the charter of the Overseas Schools Advisory Council.

FOR FURTHER INFORMATION CONTACT: Harry Mahar, Deputy Assistant Secretary for Operations and Executive Secretary of the Committee at (202) 647-2082.

SUPPLEMENTARY INFORMATION:

Renewal of Advisory Committee: The Secretary of State announces the renewal of the charter of the Overseas Schools Advisory Council in accordance with the Federal Advisory Committee Act.

Purpose: The main objectives of the Council are:

(a) To advise the Department of State regarding matters of policy and funding for the overseas schools.

(b) To help the overseas schools become showcases for excellence in education.

(c) To help make service abroad more attractive to American citizens who have school-age children, both in the business community and in Government.

(d) To identify methods to mitigate risks to American private sector interests worldwide.

Harry Mahar,
Deputy Assistant Secretary for Operations.

[FR Doc. 2017-07643 Filed 4-14-17; 8:45 am]

BILLING CODE 4710-24-P